DEPARTMENT OF HOMELAND SECURITY

Coast Guard

[USCG-2003-14750]

National Boating Safety Advisory Council

AGENCY: Coast Guard, DHS.

ACTION: Notice of meetings.

SUMMARY: The National Boating Safety Advisory Council (NBSAC) and its subcommittees on regulatory review III of recreational boating safety regulations, boats and associated equipment, aftermarket marine equipment, and prevention through people will meet to discuss various issues relating to recreational boating safety. All meetings will be open to the public.

DATES: NBSAC will meet on Monday, April 28, 2003, from 8:30 a.m. to 5 p.m. and Tuesday, April 29 from 8:30 a.m. to 12 noon. The Recreational Boating Safety Regulatory Review III Subcommittee will meet on Saturday, April 26, 2003, from 1 p.m. to 5 p.m. The Boats and Associated Equipment Subcommittee will meet on Sunday, April 27, 2003, from 9 a.m. to 12 noon. The Aftermarket Marine Equipment Subcommittee will meet on Sunday, April 27, 2003, from 1 p.m. to 3 p.m. The Prevention Through People Subcommittee will meet on Sunday, April 27, 2003, from 3:30 p.m. to 5:30 p.m. These meetings may close early if all business is finished. On Sunday, April 27, a Subcommittee meeting may start earlier if the preceding Subcommittee meeting has closed early. Written material and requests to make oral presentations should reach the Coast Guard on or before April 15, 2003. Requests to have a copy of your material distributed to each member of the committee or subcommittees should reach the Coast Guard on or before April 7, 2003.

ADDRESSES: NBSAC will meet at the Holiday Inn Rosslyn at Key Bridge, 1900 N. Fort Meyer Drive, Arlington, VA 22209. The subcommittee meetings will be held at the same address. Send written material and requests to make oral presentations to Mr. Jeff Hoedt, Executive Director of NBSAC, Commandant (G-OPB-1), US. Coast Guard Headquarters, 2100 Second Street SW., Washington, DC 20593-0001. This notice is available on the Internet at http://dms.dot.gov under docket USCG-2003-14750 or at the Web Site for the Office of Boating Safety at URL address www.uscgboating.org.

FOR FURTHER INFORMATION CONTACT: Jeff Hoedt, Executive Director of NBSAC, telephone 202-267-0950, fax 202-267-4285. You may obtain a copy of this notice by calling the U.S. Coast Guard Infoline at 1-800-368-5647.

SUPPLEMENTARY INFORMATION: Notice of these meetings is given under the Federal Advisory Committee Act, 5 U.S.C. App. 2.

Tentative Agendas of Meetings

National Boating Safety Advisory Council (NBSAC). The agenda includes the following:

(1) Remarks—Rear Admiral Jeffrey J. Hathaway, Director of Operations Policy and Council Sponsor.

(2) Chief, Office of Boating Safety Update on NBSAC Resolutions.

(3) Executive Director's report.

(4) Chairman's session.

(5) Recreational Boating Safety Regulatory Review III Subcommittee report.

(6) Boats and Associated Equipment Subcommittee report.

(7) Aftermarket Marine Equipment Subcommittee report.

(8) Prevention Through People Subcommittee report.

(9) Recreational Boating Safety Program report.

(10) Coast Guard Auxiliary report.

(11) Canadian Coast Guard report.

(12) National Association of State Boating Law Administrators Report.

(13) Wallop Breaux reauthorization update.

(14) Presentation on Canoe and Kayak Safety Issue.

(15) Report on Boating Safety Interventions for Anglers and Hunters.

(16) Update on Risk-based Approval Process for Personal Flotation Devices (PFDs) (Former Personal Flotation Device-Life Saving Index (PFD-LSI).) and development of PFD design and evaluation tools—manikin family and computer model.

(17) Presentation on USCG Maritime Security Rulemaking Effort.

Recreational Boating Safety Regulatory Review III Subcommittee. The agenda includes the following:

(1) Review recreational boating safety regulations concerning requirements for operators of recreational vessels (33 CFR parts 95, 100, 173, 174, 175, 177, 181 (subparts A and G), 187 and 46 CFR part 25 (subpart 25.30), and part 58 (subparts 58.03 and 58.10).

(2) Present recommendations to the Council as to whether the current recreational boating safety regulations need to be changed or removed based on a review of need, technical accuracy, cost/benefit, problems and alternatives.

Boats and Associated Equipment Subcommittee. The agenda includes the following: Discuss current regulatory projects, grants, contracts and new issues impacting boats and associated equipment.

Aftermarket Marine Equipment Subcommittee. The agenda includes the following: Discuss current regulatory projects, grants, contracts and new issues impacting aftermarket marine equipment.

Prevention Through People Subcommittee. The agenda includes the following: Discuss current regulatory projects, grants, contracts and new issues impacting prevention through people.

Procedural

All meetings are open to the public. Please note that the meetings may close early if all business is finished. At the Chairs' discretion, members of the public may make oral presentations during the meetings. If you would like to make an oral presentation at a meeting, please notify the Executive Director no later than April 14, 2003. Written material for distribution at a meeting should reach the Coast Guard no later than April 7, 2003. If you would like a copy of your material distributed to each member of the committee or subcommittee in advance of a meeting, please submit 25 copies to the Executive Director no later than April 7, 2003.

Information on Services for Individuals With Disabilities

For information on facilities or services for individuals with disabilities or to request special assistance at the meetings, contact the Executive Director as soon as possible.

Dated: March 24, 2003
Jeffrey J. Hathaway,
Rear Admiral, Coast Guard, Director of Operations Policy.

[FR Doc. 03-7544 Filed 3-28-03; 8:45 am]

BILLING CODE 4910-15-P